PACIFIC NORTHWEST ELECTRIC POWER AND CONSERVATION PLANNING COUNCIL

Northwest Power and Conservation Planning Council Subbasin Plan Draft Amendments

AGENCY: Pacific Northwest Electric Power and Conservation Planning Council (Northwest Power and Conservation Council; Council).

ACTION: Notice of availability and opportunity to comment on subbasin plan draft amendments to the Council's Columbia River Basin Fish and Wildlife Program (program).

SUMMARY: Following the mandate set out in the Pacific Northwest Electric Power Planning and Conservation Act of 1980 (16 U.S.C. 839 et seq.) (the Act), in November 1982 the Council adopted a regional program, the Columbia River Basin Fish and Wildlife Program. The Act requires the program be designed to protect, mitigate and enhance fish and wildlife of the Columbia River Basin affected by hydropower dams, while also assuring the region of an adequate, efficient, economical and reliable power supply.

SUPPLEMENTARY INFORMATION: In 2000, the Council began a comprehensive revision of the program. First, the Council amended the program by adopting a framework of vision, objectives and strategies at different geographic scales (basinwide, ecological province, subbasin), tied together with a consistent scientific foundation. The Council also adopted basinwide provisions and described how it proposed to add more specific objectives and measures to the program through integrated subbasin plans for the tributary subbasins of the Columbia and for specific mainstem reaches. The draft amendments now proposed for adoption will add subbasin plans to the general, basinwide provisions of the program as the next step in the comprehensive revision.

On August 12, 2002, the Council solicited recommendations for amendments to the program at the subbasin level from the region's state and federal fish and wildlife agencies, Indian tribes, and others, as required by the Act. At the same time, the Council worked with a broad range of interests in the region and developed a “Technical Guide for Subbasin Planners” to help ensure that plans had a consistent format and content. The Council also worked with the Bonneville Power Administration to secure funding support for planning groups, the first time that funding has been made available to help develop fish and wildlife program amendment recommendations. Subbasin planners were asked to develop subbasin plans that incorporate a technical assessment, an inventory of past and present activities, and a management plan consisting of a vision, biological objectives and implementation strategies for the subbasin.

On May 28, 2004, the Council received 59 recommendations for subbasin plans in 58 subbasins from various planning entities. The Council made those recommendations available for public review and comment, including review by a team of independent scientists. The public comment period on the recommendations ended on August 12, 2004. The Council received an extensive set of comments. The Council staff and Council also reviewed the plans during the comment period for consistency with standards in the Act for program amendments and with the provisions in the 2000 Program.

After its review of the recommendations and the comments on recommenda­tions, the Council divided the recommended subbasin plans into three groups for consideration as amendments to the Council's fish and wildlife program. From October to December 2004, the Council engaged in public review of the first set of draft subbasin plans, deciding in December 2004 to adopt plan for 23 subbasin plans into the program.

At same time, as its December 2004 meeting the Council decided to release a second set of 29 subbasin plan recommendations for public review as draft amendments to the program. The Council proposes to adopt the management plan portions of these subbasin plans as parts of the program. The underlying technical assessments and inventories will be placed in an appendix to the program. The Columbia subbasins for which draft subbasin plans are now proposed for adoption into the program are: Boise, Burnt, Clearwater, Columbia Estuary, Cowlitz, Deschutes Elochoman, Entiat, Grays, Imnaha, Kalama, Klickitat, Lewis, Little White Salmon, Lower Columbia, Lower Mid-Columbia, Lower Mid-Snake, Methow, Okanogan, Payette, Powder, Snake Hells Canyon, Upper Mid-Snake, Walla Walla, Washougal, Weiser, Wenatchee, Wind, Yakima.

Public Comments and Hearings

The Council has scheduled public hearings in the following locations to accept oral and written comments on the 29 draft subbasin plan program amendments:

First hearing: Boise, Thursday, January 6 (Boise, Payette, Weiser, Powder, Burnt, Upper and Lower Mid-Snake).

Second hearing: Clarkston, Wednesday, January 12 (Clearwater, Imnaha, Snake Hells Canyon, Walla Walla).

Third hearing: Vancouver, Tuesday, January 18 in conjunction with the Council meeting (Lower Columbia, Columbia Estuary).

Fourth hearing: Hood Rover, Monday, January 24 (Deschutes, Klickitat, Little White Salmon, Lower Mid-Columbia, Wind).

Fifth hearing: Wenatchee, Wednesday, January 26 (Entiat, Methow, Okanagon, Wenatchee, Yakima).

Sixth hearing: Kalispell, Wednesday, January 27 (any subbasin).

See specific locations and schedules at www.subbasins.org. Check this link regularly, as we will post any updated information there. Public comment period for the above plans closes on January 31, 2005.

The Council will consider all comments received on the draft program amendments as it decides whether to adopt them as amendments to the program. The Council tentatively has scheduled the decision on program adoption of these 29 subbasin plans at its February 2005 meeting in Portland. For precise times and locations, please contact the Council's central office or consult the Council's web site.

FOR FURTHER INFORMATION CONTACT: If you would like a copy of the Subbasin Plan Draft Amendments on a compact disc or in printed form, please contact the Council's central office. The Council's address in 851 SW Sixth Avenue, Suite 1100, Portland, Oregon 97204 and its telephone numbers are 503-222-5161: 800-452-5161. The Council's FAX number is 503-820-2370. The Subbasin Plan Draft Amendments are also fouind on the Council's Web site: www.nwcouncil.org.

If you are submitting comments on the draft amendments, please note prominently which subbasin plan you are commenting on and address them to Mr. Mark Walker, Director of Public Affairs. Comments may be submitted by mail, by facsimile transmission (FAX), or by electronic mail at: comments@nwcouncil.org. All comments must be received by 5 p.m. on January 31, 2005.

Stephen L. Crow,
Executive Director.

[FR Doc. 05-1249 Filed 1-21-05; 8:45 am]

BILLING CODE 7905-01-M